DEPARTMENT OF AGRICULTURE

Forest Service

Revision of the Land Management Plan for the Nantahala and Pisgah National Forests

AGENCY: Forest Service, USDA.

ACTION: Notice of Initiating the development of a land management plan revision for the Nantahala and Pisgah National Forests.

SUMMARY: The Nantahala and Pisgah National Forests, located in North Carolina, are initiating the development of a land management plan revision (forest plan) for the Nantahala and Pisgah National Forests (NFs). A Draft Assessment has been posted to our Web site. We are inviting the public to help us develop a preliminary “need for change” and a proposed action for the land management plan revision.

DATES: A draft of the Assessment report for the revision of the Nantahala and Pisgah NFs land management plan was posted on the following Web site at www.fs.usda.gov/goto/nfsnc/nprevision on September 20, 2013.

Public meetings associated with the development of the preliminary “need for change” and a proposed action will be announced on the Web site cited above.

It is anticipated that the Notice of Intent to prepare an environmental impact statement (which will accompany the land management plan revision for the Nantahala and Pisgah NFs), will be published in the Federal Register around December 2013 to January 2014.

ADDRESSES: Written comments or questions concerning this notice should be addressed to National Forests in North Carolina, Nantahala and Pisgah Plan Revision, 160 Zillicoa St., Suite A, Asheville, North Carolina 28801. Comments or questions may also be sent via email to NCplanrevision@fs.fed.us. All correspondence, including names and addresses when provided, are placed in the record and are available for public inspection and copying.

FOR FURTHER INFORMATION CONTACT: Ruth Berner, Forest Planner, 828-257-4200. Individuals who use telecommunication devices for the deaf (TDD) may call the Federal Information Relay Service (FIRS) at 1-800-877-8339 between 8:00 a.m. and 8:00 p.m. (Eastern time), Monday through Friday.

More information on the planning process can also be found on the Nantahala and Pisgah Plan Revision Web site at www.fs.usda.gov/goto/nfsnc/nprevision.

SUPPLEMENTARY INFORMATION: Pursuant to the 2012 Forest Planning Rule (36 CFR Part 219), the planning process encompases three-stages: Assessment, plan revision, and monitoring. The first stage of the planning process involves assessing social, economic, and ecological conditions of the planning area, which is documented in an assessment report. A draft of the assessment report for the Nantahala and Pisgah NFs was posted on the Forest Web site at www.fs.usda.gov/goto/nfsnc/nprevision on September 20, 2013.

This notice announces the start of the second stage of the planning process, which is the development of the land management plan revision. The first task of plan revision is to develop a preliminary “need for change”, which identifies the need to change management direction in current plans due to changing conditions or other monitoring information. The next task is to develop a proposed action, which is a proposal on how to respond to needs for changes. We are inviting the public to help us develop our preliminary “need for change” and a proposed action.

A proposed action will initiate our compliance with the National Environmental Policy Act. A Notice of Intent to prepare an environmental impact statement for the land mangement plan revision, which will include a description of the preliminary need for change and a description of the proposed action, will be published around December 2013 to January 2014 in the Federal Register.

Forest plans developed under the National Forest Management Act (NFMA) of 1976 describe the strategic direction for management of forest resources for ten to fifteen years, and are adaptive and amendable as conditions changes over time. The Forest Plan for the Nantahala and Pisgah NFs was approved in 1987, with a Significant Amendment to the Forest Plan approved in 1994. On November 20, 2012, a public announcement was made that the Nantahala and Pisgah NFs were beginning to work on the Assessment for revising their Forest Plan. This notice announces the start of the second stage of the planning process, the development of the land management plan revision. Once the plan revision is completed, it will be subject to the objection procedures of 36 CFR Part 219, Subpart B, before it can be approved. The third stage of the planning process is the monitoring and evaluation of the revised plan, which is ongoing over the life of the revised plan.

As public meetings, other opportunities for public engagement, and public review and comment opportunties are identified to assist with the development of the forest plan revision, public announcements will be made, notifications will be posted on the Forest's Web site at www.fs.usda.gov/goto/nfsnc/nprevision and information will be sent out to the Forest's mailing list. If anyone is interested in being on the Forest's mailing list to receive these notifications, please contact Ruth Berner, the Forest Planner, at the address identified below, or by sending an email to NCplanrevision@fs.fed.us.

Responsible Official

The responsible official for the revision of the land management plan for the Nantahala and Pisgah National Forests is Kristin Bail, Forest Supervisor, National Forests in North Carolina, 160 Zillicoa St., Suite A, Asheville, North Carolina 28801.

Dated: September 25, 2013.
Kristin Bail,
Forest Supervisor.

[FR Doc. 2013-24218 Filed 10-2-13; 8:45 am]

BILLING CODE 3410-11-P